DEPARTMENT OF HOMELAND SECURITY

Federal Emergency Management Agency

[Docket ID FEMA-2021-0002; Internal Agency Docket No. FEMA-B-2102]

Proposed Flood Hazard Determinations

AGENCY: Federal Emergency Management Agency; Department of Homeland Security.

ACTION: Notice; correction.

SUMMARY: On January 25, 2021 FEMA published in the Federal Register a proposed flood hazard determination notice that contained an erroneous table. This notice provides corrections to that table to be used in lieu of the erroneous information. The table provided here represents the proposed flood hazard determinations and communities affected for Columbia County, Pennsylvania (All Jurisdictions).

DATES: Comments are to be submitted on or before June 10, 2021.

ADDRESSES: The Preliminary Flood Insurance Rate Map (FIRM), and where applicable, the Flood Insurance Study (FIS) report for each community are available for inspection at both the online location and the respective Community Map Repository address listed in the table below. Additionally, the current effective FIRM and FIS report for each community are accessible online through the FEMA Map Service Center at https://msc.fema.gov for comparison.

You may submit comments, identified by Docket No. FEMA-B-2102, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at https://floodsrp.org/pdfs/srp_fact_sheet.pdf.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 86 FR 6898-6899 in the January 25, 2021, issue of the Federal Register, FEMA published a table titled “Columbia County, Pennsylvania and Incorporated Areas”. This table contained inaccurate information in the header featured in the table. In this document, FEMA is publishing a table containing the accurate information. The information provided below should be used in lieu of that previously published.

(Catalog of Federal Domestic Assistance No. 97.022, “Flood Insurance.”)

Michael M. Grimm,
Assistant Administrator for Risk Management, Department of Homeland Security, Federal Emergency Management Agency.

Community | Community map repository address
Columbia County, Pennsylvania (All Jurisdictions)
Project: 15-03-0227S Preliminary Date: May 31, 2019 and August 28, 2020
Borough of Benton | Borough Office, 590 Everett Street, Benton, PA 17814.
Borough of Berwick | City Hall, 1800 North Market Street, Berwick, PA 18603.
Borough of Briar Creek | Briar Creek Borough Hall, 6029 Park Road, Berwick, PA 18603.
Borough of Catawissa | Borough Hall, 307 Main Street, Catawissa, PA 17820.
Borough of Millville | Borough Office, 136 Morehead Avenue, Millville, PA 17846.
Borough of Orangeville | Borough Building, 301 Mill Street, Orangeville, PA 17859.
Borough of Stillwater | Borough Hall, 63 McHenry Street, Stillwater, PA 17878.
Town of Bloomsburg | Town Hall, 301 East 2nd Street, Bloomsburg, PA 17815.
Township of Beaver | Beaver Township Secretary, 650 Beaver Valley Road, Bloomsburg, PA 17815.
Township of Benton | Township Building, 236 Shickshinny Road, Benton, PA 17814.
Township of Briar Creek | Briar Creek Township Building, 150 Municipal Road, Berwick, PA 18603.
Township of Catawissa | Township Building, 153 Old Reading Road, Catawissa, PA 17820.
Township of Cleveland | Cleveland Township Building, 46 Jefferson Road, Elysburg, PA 17824.
Township of Conyngham | Conyngham Township Building, 209 Smith Street, Wilburton, PA 17888.
Township of Fishing Creek | Fishing Creek Township Building, 3188 State Route 487, Orangeville, PA 17859.
Township of Franklin | Franklin Township Building, 313 Mount Zion Road, Catawissa, PA 17820.
Township of Greenwood | Greenwood Township Building, 90 Shed Road, Millville, PA 17846.
Township of Hemlock | Hemlock Township Building, 26 Firehall Road, Bloomsburg, PA 17815.
Township of Jackson | Jackson Municipal Building, 862 Waller-Divide Road, Benton, PA 17814.
Township of Locust | Locust Municipal Building, 1223A Numidia Drive, Catawissa, PA 17820.
Township of Madison | Madison Township Office, 136 Morehead Avenue, Millville, PA 17846.
Township of Main | Main Township Office, 345 Church Road, Bloomsburg, PA 17815.
Township of Mifflin | Mifflin Township Building, 207 East First Street, Mifflinville, PA 18631.
Township of Montour | Montour Township Office, 195 Rupert Drive, Bloomsburg, PA 17815.
Township of Mount Pleasant | Mount Pleasant Community Center, 558 Millertown Road, Bloomsburg, PA 17815.
Township of North Centre | North Centre Township Building, 1059 State Route 93, Berwick, PA 18603.
Township of Orange | Orange Municipal Building, 2028 State Route 487, Orangeville, PA 17859.
Township of Pine | Pine Township Building, 309 Wintersteen School Road, Millville, PA 17846.
Township of Roaring Creek | Roaring Creek Township Secretary, 28 Brass School Road, Catawissa, PA 17820.
Township of Scott | Scott Municipal Building, 350 Tenny Street, Bloomsburg, PA 17815.
Township of South Centre | South Centre Municipal Building, 6260 Fourth Street, Bloomsburg, PA 17815.
Township of Sugarloaf | Sugarloaf Municipal Building, 90 Schoolhouse Road, Benton, PA 17814.

[FR Doc. 2021-05221 Filed 3-11-21; 8:45 am]

BILLING CODE 9110-12-P